DEPARTMENT OF THE INTERIOR

Bureau of Land Management

[DOI-2023-0026; LLHQ500000, L18500000.YC0000, LIITADC10000, 245]

Privacy Act of 1974; System of Records

AGENCY: Bureau of Land Management, Interior.

ACTION: Notice of a modified system of records.

SUMMARY: Pursuant to the provisions of the Privacy Act of 1974, as amended, the Department of the Interior (DOI) is issuing a public notice of its intent to modify the Bureau of Land Management (BLM) Privacy Act system of records, INTERIOR/LLM-2, Range Management System. DOI is publishing this revised system of records notice (SORN) to change the system name to INTERIOR/BLM-02, Rangeland Management Program, to reflect the expanded scope of the system and update all sections of the notice in accordance with the Office of Management and Budget (OMB) policy. This modified system will be included in DOI's inventory of record systems.

DATES: This modified system will be effective upon publication. New or modified routine uses will be effective July 1, 2024. Submit comments on or before July 1, 2024.

ADDRESSES: You may send comments identified by docket number [DOI-2023-0026] by any of the following methods:

• Federal eRulemaking Portal: https://www.regulations.gov. Follow the instructions for sending comments.

• Email: DOI_Privacy@ios.doi.gov. Include docket number [DOI-2023-0026] in the subject line of the message.

• U.S. mail or hand-delivery: Teri Barnett, Departmental Privacy Officer, U.S. Department of the Interior, 1849 C Street NW, Room 7112, Washington, DC 20240.

Instructions: All submissions received must include the agency name and docket number [DOI-2023-0026]. All comments received will be posted without change to https://www.regulations.gov, including any personal information provided.

Docket: For access to the docket to read background documents or comments received, go to https://www.regulations.gov.

FOR FURTHER INFORMATION CONTACT: Ashanti Murphy-Jones, Acting Associate Privacy Officer, Bureau of Land Management, 1849 C Street NW, Room No. 5644, Washington, DC 20240, blm_wo_privacy@blm.gov or (202) 365-1429.

SUPPLEMENTARY INFORMATION:

I. Background

The BLM maintains the INTERIOR/LLM-02, Range Management System, system of records to help the BLM manage approximately 245 million acres of public land in accordance with Federal laws. BLM currently administers the issuance of permits and leases for livestock grazing on public lands under its jurisdiction and for reindeer in Alaska. BLM also issues billing notices on an annual basis for the permits and leases administered. However, the processing of payments for these bills is not handled by the program.

BLM's Rangeland Management Program consists of multiple information systems and applications that assist BLM in its operations to ensure the health and productivity of public rangelands. DOI last published the INTERIOR/LLM-02, Range Management System, SORN in the Federal Register at 75 FR 82061 (December 29, 2010); modification published at 86 FR 50156 (September 7, 2021). In this notice, BLM is changing the system name from INTERIOR/LLM-2, Range Management System, to INTERIOR/BLM-02, Rangeland Management Program, to reflect the current bureau designation and expanded scope of the BLM Rangeland Management Program and updating all sections to provide greater transparency and clearly describe the records collected, used, and/or maintained as part of the overall BLM Rangeland Management Program activities.

BLM is updating the system manager information to provide a centralized point of contact for the entire rangeland program; updating authorities to cite the specific programmatic authorities for collecting, maintaining, using, and disseminating the information under the Rangeland Management Program; and updating the purposes to articulate the purposes more clearly for the program. BLM is expanding the categories of individuals and categories of records to more accurately reflect the types of individuals and program records contained within the system, and is updating the record source section to include cooperators. BLM is updating the storage, safeguards, and records retention schedules sections to reflect current safeguards and clarify the records retention schedules. BLM is updating the record access, contesting, and notification procedures sections to incorporate updated instructions on where to obtain Privacy Act access and consent forms and submit requests; and making general and administrative updates to the remaining sections to accurately reflect the management of the system of records in accordance with OMB Circular A-108, Federal Agency Responsibilities for Review, Reporting, and Publication under the Privacy Act. The existing routine uses are being updated from a numeric to alphabetic list and are being modified to provide clarity and transparency and reflect updates consistent with standard DOI routine uses. Additionally, DOI is proposing new routine uses to facilitate the sharing of information with agencies and organizations to promote the integrity of the records in the system or carry out a statutory responsibility of the DOI or Federal government.

Routine use A was slightly modified to further clarify disclosures to the Department of Justice (DOJ) or other Federal agencies, when necessary, in relation to litigation or judicial hearings. Routine use B was modified to clarify disclosures to a congressional office to respond to or resolve an individual's request made to that office. Proposed routine use C facilitates the sharing of information with the Executive Office of the President to resolve issues concerning individuals' records. Routine use D was modified to include foreign law enforcement authorities to facilitate sharing of information when necessary in relation to potential violations of law. Routine use F was modified to include foreign agencies to facilitate sharing information when necessary in relation to the hiring, firing or retention of an individual, or issuance of a security clearance or other benefit. Routine use H was slightly modified to include sharing of information with territorial government agencies in response to court orders or for discovery purposes related to litigation. Routine use I was modified to include grantees and shared service providers to facilitate sharing of information when authorized and necessary to perform services on DOI's behalf. Modified routine use J allows DOI and BLM to share information with appropriate Federal agencies or entities when reasonably necessary to respond to a breach of PII and to prevent, minimize, or remedy the risk of harm to individuals or the Federal government resulting from a breach in accordance with OMB Memorandum M-17-12, Preparing for and Responding to a Breach of Personally Identifiable Information. Routine use N was modified to clarify the sharing of information with the news media and the public when it is necessary to preserve the confidence in the integrity of DOI; demonstrate the accountability of its officers, employees, or individuals covered in the system; where there exists a legitimate public interest; or in support of a legitimate law enforcement or public safety function. Routine use Q was modified to add Federal and county agencies, businesses, organizations, and associations to facilitate the administration of duties that directly relate to livestock grazing permits on BLM administered public land.

The name and address of grazing permittees may be disclosed based on the decision in Western Watersheds Project v. Bureau of Land Management, No. CV 09-482-CWD, 2010 U.S. Dist. LEXIS 95379 (D. Idaho Sept. 13, 2010). In this case, the Court found that any privacy interest grazing permittees have in their names and addresses are minimal and the public interest in disclosing the names and addresses of permittees is substantial. Therefore, the Court held that the disclosure of the names and addresses of permittees would not constitute a clearly unwarranted invasion of personal privacy, and that the Department may not rely on Exemption 6 under the Freedom of Information Act (FOIA) to withhold this information. Therefore, the BLM makes the names and addresses of grazing permittees available to the public under the FOIA through reports published on the BLM official website and BLM FOIA Reading Room.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains, and the routine uses of each system. The INTERIOR/BLM-02, Rangeland Management Program, SORN is published in its entirety below. In accordance with 5 U.S.C. 552a, DOI has provided a report of this system of records to OMB and Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/BLM-02, Rangeland Management Program.

SECURITY CLASSIFICATION:

Unclassified.

SYSTEM LOCATION:

Records are maintained at the National Operation Center, Denver Federal Center, Building 50, Bureau of Land Management, U.S. Department of the Interior, Denver, Colorado 80225, and BLM district and field offices, where grazing authorizations are issued and managed. A current listing of BLM district and field offices and contact information may be obtained by visiting the BLM website at https://www.blm.gov or by contacting the System Manager.

SYSTEM MANAGER(S):

Senior Natural Resource Specialist, Office of Resources and Planning, Bureau of Land Management, U.S. Department of the Interior, 1387 South Vinnell Way, Boise, ID 83709.

AUTHORITY FOR MAINTENANCE OF THE SYSTEM:

Taylor Grazing Act of 1934, 43 U.S.C. 315, as amended; Federal Land Policy Management Act of 1976, 43 U.S.C. 1701, as amended; Oregon & California Railroad Revested Lands Sustained Yield Management Act of 1937, 43 U.S.C. 2603, as amended; and Public Rangelands Improvement Act of 1978, 43 U.S.C. 1901, as amended.

PURPOSE(S) OF THE SYSTEM:

The purposes of the Rangeland Management Program are to:

(1) Effectively administer and maintain an orderly record of grazing permits, case files, and associated activities on public lands managed by BLM; and

(2) Provide statistical information regarding activities on public lands to State, local and Tribal governments, other Federal agencies, businesses, and individuals.

CATEGORIES OF INDIVIDUALS COVERED BY THE SYSTEM:

Records are maintained on individuals and businesses that are cooperating and coordinating improvement projects on lands administered by the BLM, applicants for grazing authorizations, grazing permittees, cooperators, base property owners, and lien holders that have notified the BLM.

This system contains records concerning corporations and other business entities, which are not subject to the Privacy Act. However, records pertaining to individuals acting on behalf of corporations and other business entities may reflect personal information that may be maintained in this system of records.

CATEGORIES OF RECORDS IN THE SYSTEM:

The Rangeland Management Program system of records contains:

• Grazing Case Files: includes grazing applications, grazing preference summary and history; signed grazing authorizations with all terms and conditions (including permits, leases and exchange of use agreements); grazing fee and service charge billing statements; evidence of ownership or control of base property; notices from lien holders; corporate or partnership documentation; affiliate documentation; notices of authorized representative; livestock control agreements; copies of brand registration; closed unauthorized use case records; cooperative range improvement agreements; range improvement permits; assignments of range improvements; grazing decisions on actions subject to appeal including applications, permits, leases, or notices of unauthorized use; correspondence to, or received from, the grazing permittee; trespass investigative files; and correspondence and information related to the administration of grazing case files.

• Allotment Files: includes activity plans, allotment management plans, coordinated resource management plans, habitat management plans; allotment maps; allotment compliance; monitoring data such as actual use; and other information related to management of allotment files.

• Hearings and Appeals Case Files: includes proposed Decision(s) and any protests; final Decision(s) and any appeals; evidence of service or attempt at service of decisions; and copies of pertinent applications, permits, leases, or notices of unauthorized use; and other information or correspondence related to hearings and appeals.

• Unauthorized Grazing Use Case Files: includes initial reports of unauthorized livestock including livestock count, field notes, and other evidential documents; unauthorized use notices including proof of service; notices of intent to impound unauthorized livestock; settlement documents including offer of settlement, acceptance of offer, billing notices, payment status, case closure letters or memos; and information and correspondence related to these case files.

• Range Improvement Project Files: includes historical records of range improvement projects; cooperative Range Improvement Agreements or Range Improvement Permits; inspections and maintenance records; and other information and correspondence related to project files.

These records may contain the individual's name, address, telephone number, email address, and group affiliation; BLM assigned case file number and operator number; lien holder's name and address; authorized representative's name, address and phone number; grazing authorization number; grazing bills and documentation of paid bills; allotment number; range improvement number, and information provided by individuals to BLM through correspondence and program activities. Information is provided by an applicant, grazing permittee, lien holder, and persons or businesses such as realtors or consultants, representing the grazing permittee. BLM personnel also collect information related to permit compliance, such as name, date, time, brand, address, and number of livestock. The records may also contain information, such as correspondence or signed authorization that is not stored in the electronic record.

RECORD SOURCE CATEGORIES:

Information is provided by the grazing permittee, applicant, cooperator, lien holder, business, or individual representing the grazing permittee. Some information, such as permit compliance, is collected by BLM personnel.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity if DOI or DOJ has agreed to represent that employee or pay for private representation of the employee; or

(5) The U.S. Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, territorial, local, Tribal, or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, territorial, local, Tribal, or foreign agencies that have requested information relevant or necessary to the hiring, firing, or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To State, territorial, and local governments and Tribal organizations or their representatives to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach, there is a risk of harm to individuals, DOI (including its information systems, programs, and operations), the Federal government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To recipients of proposed grazing decisions as set forth in 43 CFR part 4160.1(a) and Final Grazing decisions in accordance with 43 CFR parts 4160.3(b) and 4.21(b)(3).

P. To commercial interests, such as hunting guides, outfitters, energy and minerals developers, and right-of-way applicants, or their representatives, whose activities are likely to affect the grazing permittee's management of livestock or maintenance or use of range improvements and who require the information in order to communicate, consult with or coordinate activities with the grazing permittee.

Q. To Federal, State and county agencies, Tribal and local governmental entities, businesses, organizations, and associations to administer duties that directly relate to livestock grazing permits on BLM administered public land.

POLICIES AND PRACTICES FOR STORAGE OF RECORDS:

Paper records are contained in file folders stored within locked file cabinets located in restricted access areas at BLM field offices. Electronic records are stored on disk, system hard drives, tape, or other appropriate media.

POLICIES AND PRACTICES FOR RETRIEVAL OF RECORDS:

Records may be retrieved by the grazing authorization number, permittee, lessee or operator name, allotment number, range improvement number, or location.

POLICIES AND PRACTICES FOR RETENTION AND DISPOSAL OF RECORDS:

The Department Records Schedule (DRS)/General Records Schedule (GRS)/BLM Records Retention Catalog (BRRC) is a combination of schedules developed and approved by the NARA, DOI and BLM. They constitute the only legal authority the BLM has to dispose of its records. Records contained in this system cover rangeland program management files and have both permanent and temporary dispositions. Retention periods vary according to the specific record and the needs of the agency. Therefore, multiple records schedules may apply to the Rangeland Program Management records:

• Grazing Allotment Files are retained according to the BLM 4, Item 11a. These records are permanent. The cutoff is the end of the Fiscal Year (EOFY) in which the effort is completed, at which point the records will be transferred to the Federal Records Center (FRC) 3 years after the cutoff. The FRC will transfer to NARA 25 years after the cutoff.

• Grazing Authorization Files and Grazing Operator Case Files are retained according to the BLM 4, Item 14a(1), N1-49-90-1. These records are permanent. The cutoff is the EOFY in which the authorization terminates and appeal rights are exhausted, at which point the records will be transferred to the FRC 2 years after cutoff. The FRC will transfer the records to NARA 20 years after cutoff.

• Grazing Authorization Files and Grazing Appeal Case Files are retained according to BLM 4, Item 14a(2), N1-49-90-1. These records are permanent. Once the decision is issued and appeal rights are exhausted, these documents are then filed with the associated operator file—item 4/14a(1) or the related Unauthorized Use Casefile—item 18/31, and subsequently follow the disposition of the casefile into which it is placed.

• Land-Use Permits Approved Case Files are retained under BLM 4, Item 14b, N1-49-90-1. These records are temporary and the cutoff is the EOFY in which the permit terminates and appeal rights are exhausted. The disposition is 30 years after the cutoff.

• Grazing and Other Land-Use Applications Rejected or Withdrawn are retained under BLM 4, Item 14d, NC1-49-76-3, B/16. These records are temporary and the cutoff is the EOFY in which the application is rejected or withdrawn and appeal rights are exhausted. These records are transferred to the FRC 2 years after the cutoff and the FRC destroys 15 years after the cutoff.

• Rangeland Administration System (RAS), Master File is retained under BLM 4, Item 14a(3)(a), N1-049-09-7, 1a. These records are permanent. A copy of the master file will be transferred to NARA upon approval of this schedule, along with the technical documentation, in accordance with 36 CFR 1235.44-50. Thereafter, transfer a copy every 5 years, along with the current technical documentation.

• Rangeland Improvement Project System (RIPS), Master File, is retained under Schedule 17, Item 13d(1), N1-049-09-11, 1a. These records are permanent. A copy of the master file will be transferred to NARA upon approval of this schedule, along with the technical documentation, in accordance with 36 CFR 1235.44-50. Thereafter, transfer a copy every 5 years, along with the current technical documentation.

• Trespass Investigative Files are retained under BLM 18, Item 31, NC1-49-76-3, B/19. These records are temporary and the cutoff is the EOFY in which the case is settled or abandoned. The disposition is 51 years after the cutoff.

Approved disposition methods include shredding or pulping for paper records, and degaussing or erasing for electronic records, in accordance with NARA guidelines and Departmental policy. Permanent records that are no longer active or needed for agency use are transferred to NARA for permanent retention in accordance with NARA guidelines.

ADMINISTRATIVE, TECHNICAL, AND PHYSICAL SAFEGUARDS:

The records contained in this system are safeguarded in accordance with 43 CFR 2.226 and other applicable security and privacy rules and policies. During normal hours of operation, paper records are maintained in secure cabinets and/or in secure file rooms under the control of authorized personnel.

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include user identification, passwords, multi-factor authentication, database permissions, firewalls, audit logs, and network system security monitoring, and software controls.

Access to records in the system is limited to authorized personnel who have a need to access the records in the performance of their official duties, and each user's access is restricted to only the functions and data necessary to perform that person's job responsibilities. System administrators and authorized users are trained and required to follow established internal security protocols and must complete all security, privacy, and records management training and sign the DOI Rules of Behavior. A Privacy Impact Assessment was completed for the associated information systems under the BLM rangeland program to ensure that Privacy Act requirements are met, and appropriate privacy controls were implemented to safeguard the personally identifiable information contained in the systems.

RECORD ACCESS PROCEDURES:

An individual requesting access to their records should send a written inquiry to the applicable System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. Requests submitted by mail must be clearly marked “PRIVACY ACT REQUEST FOR ACCESS” on both the envelope and letter. A request for access must meet the requirements of 43 CFR 2.238.

CONTESTING RECORD PROCEDURES:

An individual requesting amendment of their records should send a written request to the applicable System Manager as identified above. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

An individual requesting notification of the existence of records about them should send a written inquiry to the applicable System Manager as identified above. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

75 FR 82061 (December 29, 2010); modification published at 86 FR 50156 (September 7, 2021).

Teri Barnett,
Departmental Privacy Officer, U.S. Department of the Interior.

[FR Doc. 2024-12008 Filed 5-30-24; 8:45 am]

BILLING CODE 4130-84-P